DEPARTMENT OF COMMERCE

[I.D. 091503C]

Submission for OMB Review; Comment Request

The Department of Commerce has submitted to the Office of Management and Budget (OMB) for clearance the following proposal for collection of information under the provisions of the Paperwork Reduction Act (44 U.S.C. Chapter 35).

Agency: National Oceanic and Atmospheric Administration.

Title: Southwest Region Logbook Family of Forms.

Form Number(s): None.

OMB Approval Number: 0648-0214.

Type of Request: Regular submission.

Burden Hours: 2,339.

Number of Respondents: 162.

Average Hours Per Response: 5.25 minutes per day for a logbook in Pacific Pelagic fisheries (unless otherwise noted); 5 minutes per report for logbooks in the Crustacean or Pelagic Toll or Handline (in the Pacific remote islands area) fisheries; 7 minutes per day for a logbook in the Precious Coral fishery; 5 minutes per report for a transshipment logbook; 5 minutes for a sales report in a logbook; 3 minutes for an at-sea catch report; 3 minutes for a pre-trip or pre-offloading notice; 1 hour per observer placement meeting; 4 hours for a claim of lost fishing time; 5 minutes for a report on gear left at sea; 5 minutes for a sales report; 2 hours for a protected species interaction report; 3 minutes for a pre-season Vessel Monitoring System (VMS) report; 4 hours for installation of a VMS unit; 2 hours for annual maintenance of a VMS unit; 24 seconds a day for automated VMS position reports; and 4 hours for an experimental fishing report.

Needs and Uses: Participants in Federally-managed fisheries in the western Pacific are required to provide certain information about their fishing activities. These include logbooks, notifications, and other requirements, as will as use of a vessel monitoring system (VMS). The information is needed for the management of the fisheries.

Affected Public: Business or other for-profit organizations, households or individuals.

Frequency: By trip, variable.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: September 12, 2003.
Gwellnar Banks,
Management Analyst, Office of the Chief Information Officer.

[FR Doc. 03-23865 Filed 9-17-03; 8:45 am]

BILLING CODE 3510-22-S